DEPARTMENT OF ENERGY

Federal Energy Regulatory Commission

[Docket No. CP08-6-000]

Midcontinent Express Pipeline, LLC; Notice of Availability of the Final Environmental Impact Statement for the Midcontinent Express Pipeline Project

May 30, 2008.

The staff of the Federal Energy Regulatory Commission (FERC or Commission) has prepared this Final Environmental Impact Statement (EIS) for the natural gas pipeline facilities proposed by Midcontinent Express Pipeline Company, LLC (MEP) under the above-referenced docket. MEP's Midcontinent Express Pipeline Project (Project) would be located in various counties and parishes in Oklahoma, Texas, Louisiana, Mississippi, and Alabama.

The Final EIS was prepared to satisfy the requirements of the National Environmental Policy Act. The U.S. Army Corps of Engineers (COE), U.S. Fish and Wildlife Service (FWS), National Park Service (NPS), Natural Resources Conservation Service (NRCS), U.S. Environmental Protection Agency (EPA), Louisiana Department of Environmental Quality (LDEQ), Louisiana Department of Wildlife and Fisheries (LDWF), Texas Parks and Wildlife Department (TPWD), Mississippi Department of Wildlife, Fisheries, and Parks (MDWFP), and Alabama Department of Conservation and Natural Resources (ADCNR) are cooperating agencies for the development of this EIS. A cooperating agency has jurisdiction by law or special expertise with respect to any environmental impact involved with the proposal and is involved in the NEPA analysis.

The general purpose of the proposed Project is to transport up to 1,500,000 dekatherms per day of natural gas from production fields in Texas, Oklahoma, and Arkansas to markets in the eastern region of the United States.

The Final EIS addresses the potential environmental impacts resulting from the construction and operation of the following facilities:

• Approximately 506.1 miles of new 30-, 36-, and 42-inch-diameter interstate natural gas pipeline extending from Bryan County, Oklahoma to a terminus in Choctaw County, Alabama;

• An approximately 4.2-mile-long, 16- and 24-inch-diameter lateral pipeline in Richland and Madison Parishes, Louisiana;

• A total of approximately 111,720 horsepower (hp) of compression at one booster and four new mainline compressor stations;

• 14 new metering and regulating (M/R) stations; and

• Other appurtenant ancillary facilities including, mainline valves (MLV) and pig ¹ launcher and receiver facilities.

¹ A “pig” is a mechanical device used to clean or inspect the pipeline.

Dependent upon Commission approval, MEP proposes to complete construction and begin operating the proposed Project in February 2009.

The Final EIS also evaluates alternatives to the proposal, including alternative energy sources, system alternatives, alternative sites for compressor stations, and alternative pipeline routes. Based on the analysis presented in this Final EIS, the FERC staff concludes that the proposed Project, with the appropriate mitigation measures as recommended, would have limited adverse environmental impact.

The Final EIS has been placed in the public files of the FERC and is available for public inspection at: Federal Energy Regulatory Commission, Public Reference Room, 888 First Street NE., Room 2A, Washington, DC 20426, (202) 502-8371.

A limited number of copies of the Final EIS are available from the Public Reference Room identified above. In addition, CD-ROM copies of the Final EIS have been mailed to affected landowners; various federal, state, and local government agencies; elected officials; environmental and public interest groups; Native American tribes; local libraries and newspapers; intervenors; and other individuals that expressed an interest in the proposed Project. Hard copies of the Final EIS have also been mailed to those who requested that format during the scoping and comment periods for the proposed Project.

Additional information about the project is available from the Commission's Office of External Affairs, at 1-866-208-FERC (3372) or on the FERC Internet Web site (http://www.ferc.gov). Using the “eLibrary link,” select “General Search” and enter the project docket number excluding the last three digits (i.e., CP08-6) in the “Docket Number” field. Be sure you have selected an appropriate date range. For assistance, please contact FERC Online Support at FERCOnlineSupport@ferc.gov or toll free at 1-866-208-3676, or TTY (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Kimberly D. Bose,
Secretary.

[FR Doc. E8-12658 Filed 6-5-08; 8:45 am]

BILLING CODE 6717-01-P